DEPARTMENT OF EDUCATION

Report From the Study of State Policies To Prohibit Aiding and Abetting Sexual Misconduct in Schools

AGENCY: Office of Elementary and Secondary Education, Department of Education.

ACTION: Notice of availability.

SUMMARY: The Department of Education (Department) is announcing the availability of the report entitled “Study of State Policies to Prohibit Aiding and Abetting Sexual Misconduct in Schools.” The report and a summary (i.e., a fact sheet summarizing the key findings of the study) are on the Office of Elementary and Secondary Education web page (https://oese.ed.gov/offices/office-of-formula-grants/safe-supportive-schools/).

FOR FURTHER INFORMATION CONTACT: Victoria Hammer, U.S. Department of Education, Office of Elementary and Secondary Education, 400 Maryland Avenue SW, Room 5B242, Washington, DC 20202. Telephone: (202) 453-6396. Email: Victoria.Hammer@ed.gov.

If you are deaf, hard of hearing, or have a speech disability and wish to access telecommunications relay services, please dial 7-1-1.

SUPPLEMENTARY INFORMATION: The Department announces the availability of the report entitled “Study of State Policies to Prohibit Aiding and Abetting Sexual Misconduct in Schools.” Under the Consolidated Appropriations Act, 2022, the Department is required to publish the results of the study in the Federal Register. The report and a summary (i.e., a fact sheet summarizing the key findings of the study) are on the Office of Elementary and Secondary Education web page https://oese.ed.gov/offices/office-of-formula-grants/safe-supportive-schools/.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Ruth Ryder,
Deputy Assistant Secretary for Policy and Programs, Office of Elementary and Secondary Education.

[FR Doc. 2022-12297 Filed 6-7-22; 8:45 am]

BILLING CODE 4000-01-P